COMMISSION ON CIVIL RIGHTS

Sunshine Act Meeting

AGENCY: United States Commission on Civil Rights.

ACTION: Notice of briefing meeting.

DATE AND TIME: Friday, January 11, 2013; 9:30 a.m. EST.

PLACE: 1331 Pennsylvania Ave NW., Suite 1150, Washington, DC 20425.

Briefing Agenda—9:30 a.m.-2:45 p.m.

This briefing is open to the public.

Topic: Sexual Assault in the Military

I. Introductory Remarks by Chairman

II. Panel I—9:30 a.m.-10:55 a.m.: Perspective of Victim and Accused Speakers' Remarks and Questions from Commissioners

III. Panel II—11:05 a.m.-12:30 p.m.: Academic Scholar Panel Speakers' Remarks and Questions from Commissioners

IV. Lunch—12:30 p.m.-1:15 p.m.

V. Panel III—1:15 p.m.-2:45 p.m.: Military Panel Speakers' Remarks and Questions from Commissioners

VI. Adjourn Briefing

CONTACT PERSON FOR FURTHER INFORMATION: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

Dated: January 1, 2013.
David Mussatt,
Acting Chief, Regional Programs Coordinating Unit.

[FR Doc. 2013-00076 Filed 1-3-13; 11:15 am]

BILLING CODE 6335-01-P